DEPARTMENT OF ENERGY

Federal Energy Regulatory Commission

Combined Notice of Filings #1

August 8, 2005.

Take notice that the Commission received the following electric rate filings:

Docket Numbers: ER00-795-001.

Applicants: Nordic Electric LLC.

Description: Nordic Electric, LLC submits its triennial updated market analysis in support of its market-based rate authority and to report that there have been no changes in status, filed in compliance with the Commission's order issued 5/31/05, 111 FERC ¶ 61,295 (2005).

Filed Date: 07/29/2005.

Accession Number: 20050804-0214.

Comment Date: 5 p.m. eastern time on Friday, August 19, 2005.

Docket Numbers: ER01-2224-001.

Applicants: Nordic Energy Barge #1 & Barge #2, L.L.C.

Description: Nordic Energy Barge #1 and Barge #2, LLC submit their triennial updated market analysis in support of their market based rate authority and to report that there have been no changes in status, filed in compliance with the Commission's order issued 5/31/05, 111 FERC ¶ 61,295 (2005).

Filed Date: 07/29/2005.

Accession Number: 20050804-0213.

Comment Date: 5 p.m. eastern time on Friday, August 19, 2005.

Docket Numbers: ER02-2595-010.

Applicants: Midwest Independent Transmission System Operator, Inc.

Description: Midwest Independent Transmission System Operator, Inc. filed an amendment to its 5/16/05 filing submitted in compliance with the Commission's 4/5/05 order in Docket Nos. ER02-2595-006 and 007, proposed revisions to Schedule 16 (Financial Transmission Rights Administrative Service Cost Recovery Adder) and Schedule 17 (Energy Market Support Administrative Service Cost Recovery Adder) of Midwest ISO's Open Access Transmission & Energy Markets Tariff, FERC Electric Tariff, Third Revised Volume No. 1.

Filed Date: 07/29/2005.

Accession Number: 20050804-0004.

Comment Date: 5 p.m. eastern time on Friday, August 19, 2005.

Docket Numbers: ER02-77-005.

Applicants: New Mexico Electric Marketing, LLC.

Description: New Mexico Electric Marketing, LLC submits a revised market-based rate schedule in compliance with the Commission's letter order issued 6/29/05 in Docket Nos. ER02-77-002, 003 and 004.

Filed Date: 07/29/2005.

Accession Number: 20050804-0015.

Comment Date: 5 p.m. eastern time on Friday, August 19, 2005.

Docket Numbers: ER05-1063-001.

Applicants: Florida Power Corporation.

Description: Florida Power Corporation d/b/a Progress Energy Florida, Inc submits amended cost support for its 6/1/05 filing of Rate Schedule No. 191 providing for cost-based power sales to the City of Winter Park.

Filed Date: 07/28/2005.

Accession Number: 20050804-0009.

Comment Date: 5 p.m. eastern time on Thursday, August 19, 2005.

Docket Numbers: ER05-1264-000.

Applicants: Pacific Gas and Electric Company.

Description: Pacific Gas and Electric Company submits tenth quarterly filing of facilities agreements with the City and County of San Francisco, Revised Rate Schedule No. 114.

Filed Date: 07/29/2005.

Accession Number: 20050803-0106.

Comment Date: 5 p.m. eastern time on Friday, August 19, 2005.

Docket Numbers: ER05-1277-000.

Applicants: Celerity Energy of Colorado, LLC.

Description: Celerity Energy of Colorado, LLC submits a notice of cancellation of its FERC Electric Rate Schedule 1 effective 7/29/05.

Filed Date: 07/28/2005.

Accession Number: 20050803-0078.

Comment Date: 5 p.m. eastern time on Thursday, August 18, 2005.

Docket Numbers: ER05-1278-000.

Applicants: Maine Electric Power Company.

Description: Maine Electric Power Company (MEPCO) submits an amendment to the basic operating agreement between MEPCO and Chester SVC Partnership, extending the agreement through July 7, 2010, designated as FERC Rate Schedule 10, First Revised Sheet 42, effective 7/1/05.

Filed Date: 07/28/2005.

Accession Number: 20050803-0077.

Comment Date: 5 p.m. eastern time on Thursday, August 18, 2005.

Docket Numbers: ER05-1283-000.

Applicants: New England Participating Transmission Owners.

Description: The Participating Transmission Owners Administration Committee, on behalf of New England's Participating Transmission Owners, submits annual update to regional formula transmission rates under section II of the ISO New England Inc. Transmission, Markets and Services Tariff, designated FERC Electric Tariff No. 3 permitted by the Commission to become effective as of 21/05.

Filed Date: 07/29/2005.

Accession Number: 20050803-0238.

Comment Date: 5 p.m. eastern time on Friday, August 19, 2005.

Docket Numbers: ER05-660-003; ER01-1710-004 and 005.

Applicants: Mill Run Windpower, LLC.

Description: Mill Run Windpower, LLC (Mill Run) submits its response to the Commission's 7/6/05 deficiency letter regarding Mill Run's 2/28/05 filing, as amended on 4/15/05, 4/22/05, 4/29/05 and 6/10/05.

Filed Date: 07/29/2005.

Accession Number: 20050804-0215.

Comment Date: 5 p.m. eastern time on Monday, August 15, 2005.

Docket Numbers: ER96-2830-006.

Applicants: Washington Gas Energy Services, Inc.

Description: Washington Gas Energy Services, Inc. submits an updated triennial market power analysis and revised tariff sheets pursuant to the Commission's order issued 5/31/05, 111 FERC ¶ 61,295 (2005).

Filed Date: 07/28/2005.

Accession Number: 20050804-0010.

Comment Date: 5 p.m. eastern time on Thursday, August 18, 2005.

Docket Numbers: ER99-705-003.

Applicants: Golden Spread Electric Cooperative, Inc.

Description: Golden Spread Electric Cooperative, Inc. submits an updated market power analysis and revisions to its market based rate tariff.

Filed Date: 07/29/2005.

Accession Number: 20050804-0016.

Comment Date: 5 p.m. eastern time on Friday, August 19, 2005.

Docket Numbers: ER99-830-012; ER04-925-004.

Applicants: Merrill Lynch Commodities, Inc.; Merrill Lynch Capital Services, Inc.

Description: Merrill Lynch Commodities, Inc and Merrill Lynch Capital Services, Inc., submit notification of change in status.

Filed Date: 07/29/2005.

Accession Number: 20050804-0003.

Comment Date: 5 p.m. eastern time on Friday, August 19, 2005.

Docket Numbers: ER99-1004-005; ER00-2738-004; ER00-2740-004; ER01-1721-002; ER02-564-002.

Applicants: Entergy Nuclear Generation Company; Entergy Nuclear FitzPatrick, LLC; Entergy Nuclear Indian Point 3, LLC; Entergy Nuclear Indian Point 2, LLC; Entergy Nuclear Vermont Yankee, LLC.

Description: Entergy Nuclear Generation Company, Entergy Nuclear FitzPatrick, LLC; Entergy Nuclear Indian Point 3, LLC; Entergy Nuclear Indian Point 2, LLC; Entergy Nuclear Vermont Yankee, LLC submit their triennial market power analysis and revised market-based rate tariffs.

Filed Date: 07/29/2005.

Accession Number: 20050803-0052.

Comment Date: 5 p.m. eastern time on Friday, August 19, 2005.

Docket Numbers: ER99-3165-003.

Applicants: Tenaska Georgia Partners LP.

Description: Tenaska Georgia Partners, LP it triennial updated market analysis and revisions to its FERC Electric Tariff, Original Volume No. 1, incorporating the Commission's change in status reporting requirements and its Market Behavior Rules.

Filed Date: 07/29/2005.

Accession Number: 20050804-0005.

Comment Date: 5 p.m. eastern time on Friday, August 19, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlineSupport@ferc.gov. or call (866) 208-3676 (toll free). For TTY, call (202) 502-8659.

Linda Mitry,
Deputy Secretary.

[FR Doc. E5-4371 Filed 8-11-05; 8:45 am]

BILLING CODE 6717-01-P